DEPARTMENT OF HEALTH AND HUMAN SERVICES

Centers for Disease Control and Prevention

[30Day-25-0792]

Agency Forms Undergoing Paperwork Reduction Act Review

In accordance with the Paperwork Reduction Act of 1995, the Centers for Disease Control and Prevention (CDC) has submitted the information collection request titled “Environmental Health Specialists Network (EHS-Net) Program” to the Office of Management and Budget (OMB) for review and approval. CDC previously published a “Proposed Data Collection Submitted for Public Comment and Recommendations” notice on August 9, 2024, to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Environmental Health Specialists (EHS-Net) Program (OMB Control Number 0920-0792, Exp. 1/31/2025)—Revision—National Center for Environmental Health (NCEH), Centers for Disease Control and Prevention (CDC).

Background and Brief Description

The National Center for Environmental Health (NCEH), Centers for Disease Control and Prevention (CDC), is requesting a three-year Paperwork Reduction Act (PRA) approval for a Revision of this Generic Clearance for data collections to support research focused on identifying and addressing environmental factors associated with foodborne illness outbreaks and other food safety issues. These data are essential to environmental public health regulators' efforts to respond more effectively to and prevent future outbreaks and food safety-associated events.

An estimated 47.8 million foodborne illnesses occur annually in the United States, resulting in 127,839 hospitalizations, and 3,037 deaths annually. These figures indicate that foodborne illness is a significant problem in the U.S. Reducing foodborne illness requires identification and understanding of the environmental factors that cause these illnesses. CDC needs to know how and why food becomes contaminated with foodborne illness pathogens. This information can then be used to determine effective food safety prevention methods. Ultimately, these actions can lead to increased regulatory program effectiveness and decreased foodborne illness. The purpose of this food safety research program is to identify and understand environmental factors associated with foodborne illness and outbreaks. This program is conducted by the Environmental Health Specialists Network (EHS-Net), a collaborative project of CDC, FDA, USDA, and local and state sites.

Environmental factors associated with foodborne illness include both food safety practices (e.g., inadequate cleaning practices) and the factors in the environment associated with those practices (e.g., worker and retail food establishment characteristics). To understand these factors, we need to collect data from those who prepare food (i.e., food workers) and on the environments in which the food is prepared (i.e., retail food establishment kitchens). Thus, data collection methods for this generic package include: (1) manager and worker interviews/information collection instruments; and (2) observation of kitchen environments. Both methods allow data collection on food safety practices and environmental factors associated with those practices.

To date, EHS-Net has conducted six studies under this Generic Clearance. The data from these studies have been disseminated to environmental public health/food safety regulatory programs and the food industry in the form of presentations at conferences and meetings, scientific journal publications, and website postings. Data from these studies have been presented in 13 articles in peer-reviewed scientific journals, in multiple presentations at national food safety conferences, and on CDC's website.

The current package is a Revision of the previous PRA clearance from 2021. This package includes the potential for sites to offer incentives to participants in EHS-Net data collection activities. This will not result in an increased cost to the Federal Government because the cost of incentives is included in the existing EHS-Net cooperative agreement. The annual cost to the Federal Government has increased by a maximum of $614 per year to cover the cost of Spanish translation of the manager and worker interview forms by the CDC Multilingual Services Team. CDC requests OMB approval for an estimated 844 annual burden hours. There is no change in the estimated annualized burden hours from the previous PRA Clearance and there is no cost to respondents other than their time to participate.

Estimated Annualized Burden Hours

Type of respondents | Form name | Number of respondents | Number of responses per respondent | Average burden per response (in hours)
Retail managers | Manager Telephone Recruiting Script | 889 | 1 | 3/60
| Manager Interview/Assessment | 400 | 1 | 30/60
| Observation | 400 | 1 | 30/60
Retail food workers | Worker Recruiting/Informed Consent Script | 2,000 | 1 | 2/60
| Worker Interview/Assessment | 2,000 | 1 | 10/60

Jeffrey M. Zirger,
Lead, Information Collection Review Office, Office of Public Health Ethics and Regulations, Office of Science, Centers for Disease Control and Prevention.

[FR Doc. 2024-27469 Filed 11-22-24; 8:45 am]

BILLING CODE 4163-18-P